Title 3—

The President

Proclamation 8561 of September 15, 2010

National Hispanic Heritage Month, 2010

By the President of the United States of America

A Proclamation

From the early settlers of the New World to those reaching for the American dream today, Hispanics have shaped and strengthened our country. During National Hispanic Heritage Month, we pause to celebrate the immeasurable contributions these individuals have made to our Nation—from its inception to its latest chapters.

Reflecting the remarkable diversity of the American people, Hispanics represent a wide range of nationalities and backgrounds. Like so many Americans, Hispanics have overcome great obstacles to persevere and flourish in every sector of our society. With enduring values of faith and family, hard work and sacrifice, Hispanics have preserved the rich heritage of generations past while contributing mightily to the promise of our Nation for their children and grandchildren.

Hispanics are leaders in all aspects of our national life, from the Supreme Court and halls of Congress to boardrooms and Main Streets. Across America, Hispanics protect neighborhoods as police officers and first responders, guide young people as teachers and mentors, and boost economic growth as business owners and operators. As members of the Armed Forces, heroic Hispanic men and women have also fought and died to defend the liberties and security of the United States in every war since the American Revolution, many serving before becoming American citizens.

This month, we honor Hispanics for enriching the fabric of America, even as we recognize and rededicate ourselves to addressing the challenges to equality and opportunity that many Hispanics still face. In reflecting on our Nation’s rich Hispanic heritage, let us take pride in our unique and vibrant history, and recommit to a shared future of freedom, prosperity, and opportunity for all.

To mark the achievements of Hispanics in the United States, the Congress, by Public Law 100-402, as amended, has authorized and requested the President to issue annually a proclamation designating September 15 through October 15 as “National Hispanic Heritage Month.”

NOW, THEREFORE, I, BARACK OBAMA, President of the United States of America, do hereby proclaim September 15 through October 15, 2010, as National Hispanic Heritage Month. I call upon public officials, educators, librarians, and all the people of the United States to observe this month with appropriate ceremonies, activities, and programs.

IN WITNESS WHEREOF, I have hereunto set my hand this fifteenth day of September, in the year of our Lord two thousand ten, and of the Independence of the United States of America the two hundred and thirty-fifth.

[FR Doc. 2010-23700

Filed 9-20-10; 8:45 am]

Billing code 3195-W0-P